ENVIRONMENTAL PROTECTION AGENCY

[FRL-7266-8]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Susan Auby at (202) 566-1672, or email at Auby.susan@epa.gov. and please refer to the appropriate EPA Information Collection Request (ICR) Number.

SUPPLEMENTARY INFORMATION:

OMB Responses to Agency Clearance Requests

OMB Approvals

EPA ICR No. 1285.05; Nonconformance Penalties for Heavy-Duty Engines and Heavy-Duty Vehicles, Including Light-Duty Trucks Reporting and Recordkeeping Requirements in 40 CFR 86.1105-86.1111; was approved 07/01/2002; OMB No. 2060-0132; expires 07/31/2005.

EPA ICR No. 2025.01; Reporting and Recordkeeping Requirements for the Friction Materials Manufacturing NESHAP in 40 CFR 63.9535, 63.9540, 63.9545, 63.9550, 63.10 and 63.6; was approved 07/02/2002; OMB No. 2060-0481; expires 07/31/2005.

EPA ICR No. 2066.01; National Emission Standards for Hazardous Air Pollutants for Engine Test Cells/Stands in 40 CFR part 63, subpart PPPPP; was approved 07/02/2002; OMB No. 2060-0483; expires 07/31/2005.

EPA ICR No. 2048.01; U.S. EPA Beach Act Grant Program; was approved 07/08/2002; OMB No. 2040-0244; expires 07/31/2005 EPA ICR No. 0783.42; Motor Vehicle Emission and Fuel Economy Compliance; Light Duty Vehicles, Light Duty Trucks and Motorcycle (Consolidated/Renewal) in 40 CFR parts 85, 86, and 600; was approved 07/16/2002; OMB No. 2060-0104; expires 07/31/2005.

EPA ICR No. 0160.07; Pesticide Registration Application, Notification and Report for Pesticide-Producing Establishments in 40 CFR part 167; was approved 07/23/2002; OMB No. 2070-0078; expires 07/31/2005.

EPA ICR No. 0318.09; Clean Watersheds Needs Survey (CWNS); was approved 07/24/2002; OMB No. 2040-0050; expires 07/31/2005.

EPA ICR No. 1755.06; Regulatory Reinvention Pilot Projects Under Project XL1; was approved 08/01/2002; OMB No. 2010-0026; expires 08/31/2005.

EPA ICR No. 1854.03; Synthetic Organic Chemical Industry (SOCMI): Consolidation of Information Collection Request (Revision) in 40 CFR parts 65, subparts A—G, part 60, subparts A, BB, Ka, Kb, VV, DDD, III, NNN, and RRR, part 61, subparts BB, Y, V, part 63, subparts F, G, H, and I; was approved 08/07/2002; OMB # 2060-0443; expires 08/31/2005.

EPA ICR No. 1292.06; Aftermarket Catalytic Converter Policy; was approved 08/08/2002; OMB No. 2060-0135; expires 08/31/2005.

Short Term Extensions

EPA ICR No. 1867.01 Reporting Requirements under EPA's Voluntary Aluminum Industrial Partnership; OMB No. 2060-0411; on 07/02/2002 OMB extended the expiration date through 10/31/2002.

EPA ICR No. 1426.05; EPA Worker Protection Standard for Hazardous Waste Operations and Emergency Response in 40 CFR part 311; OMB No. 2050-0105; on 07/31/2002 OMB extended the expiration date through 10/31/2002.

Comment Filed

EPA ICR No.1992.01; Implementation of Incentives Designed for EPA's National Environmental Performance Track; on 07/31/2002 OMB filed comment.

EPA ICR No. 1189.10; Identification, Listing and Rulemaking Petitions Cathode Ray Tubes Proposed Rule in 40 CFR 261.4; OMB No. 2050-0053; on 07/02/2002 OMB filed comment.

EPA ICR No. 1597.05; Reporting and Recordkeeping Requirements for Universal Waste Handlers and Destination Facilities (Mercury Proposed Rule); in 40 CFR part 273; OMB No. 2050-0145; on 07/02/2002 OMB filed comment.

EPA ICR No. 2042.01; NESHAP for Semiconductor Manufacturing; in 40 CFR part 63, subpart BBBBB; on 07/17/2002; OMB filed comment.

EPA ICR No. 1995.01; Recordkeeping and Reporting Requirements for the Coke Oven NESHAP; Pushing, Quenching, and Battery Stacks; in 40 CFR part 63, subpart CCCCC; on 07/08/2002 OMB filed comment.

EPA ICR No. 1813.03; Regional Haze Rule—Proposed Revisions to Incorporate Sulfur Dioxide Milestones and Backstop Emissions Trading Program for Nine Western States and Eligible Indian Tribes in 40 CFR 51.309; OMB No. 2060-0421; on 07/02/2002 OMB comment filed and continue.

OMB Withdrawals

EPA ICR No. 1993.01; Evaluations of Innovative Pilot Project Innovations; on 07/19/2002 this ICR was withdrawn from OMB review.

Dated: August 16, 2002.
Oscar Morales,
Director, Collection Strategies Division.

[FR Doc. 02-21657 Filed 8-23-02; 8:45 am]

BILLING CODE 6560-50-P